DEPARTMENT OF VETERANS AFFAIRS

[OMB Control No. 2900-0636]

Proposed Information Collection Activity: Proposed Collection; Comment Request

AGENCY: Veterans Benefits Administration, Department of Veterans Affairs.

ACTION: Notice.

SUMMARY: The Veterans Benefits Administration (VBA), Department of Veterans Affairs (VA), is announcing an opportunity for public comment on the proposed collection of certain information by the agency. Under the Paperwork Reduction Act (PRA) of 1995, Federal agencies are required to publish notice in the Federal Register concerning each proposed collection of information, including each proposed revision of a currently approved collection, and allow 60 days for public comment in response to the notice. This notice solicits comments for information needed to determine a claimant's election to receive accelerated payment under the Montgomery GI Bill Program.

DATES: Written comments and recommendations on the proposed collection of information should be received on or before September 2, 2003.

ADDRESSES: Submit written comments on the collection of information to Nancy J. Kessinger, Veterans Benefits Administration (20S52), Department of Veterans Affairs, 810 Vermont Avenue, NW., Washington, DC 20420. Please refer to “OMB Control No. 2900-0636” in any correspondence.

FOR FURTHER INFORMATION CONTACT: Nancy J. Kessinger at (202) 273-7079 or FAX (202) 275-5947.

SUPPLEMENTARY INFORMATION: Under the PRA of 1995 (Pub. L. 104-13; 44 U.S.C. 3501-3520), Federal agencies must obtain approval from the Office of Management and Budget (OMB) for each collection of information they conduct or sponsor. This request for comment is being made pursuant to Section 3506(c)(2)(A) of the PRA.

With respect to the following collection of information, VBA invites comments on: (1) Whether the proposed collection of information is necessary for the proper performance of VBA's functions, including whether the information will have practical utility; (2) the accuracy of VBA's estimate of the burden of the proposed collection of information; (3) ways to enhance the quality, utility, and clarity of the information to be collected; and (4) ways to minimize the burden of the collection of information on respondents, including through the use of automated collection techniques or the use of other forms of information technology.

Title: Request for Accelerated Payment; Certifications Required from Individuals Electing Accelerated Payments; and Agreement with Educational Institution.

OMB Control Number: 2900-0636.

Type of Review: Revision of a currently approved collection.

Abstract: A claimant who wishes to receive an accelerated payment of educational assistance under the Montgomery GI Bill (MGIB) must elect to do so. VA uses the request to support the claimant's election and to determine whether the claimant wants this option over the established monthly payments. The claimant is required to report that the payment was received and how the payment was used. In addition, schools are allowed to receive an advance MGIB accelerated payment on behalf of a claimant enrolled at that institution.

Affected Public: Individuals or household.

Estimated Annual Burden: 1,086 hours.

a. Request for Accelerated Payment—167 hours.

b. Certifications Required from Individuals Electing Accelerated Payments—833 hours.

c. Agreement with Educational Institutions—86 hours.

Estimated Average Burden per Respondent:

a. Request for Accelerated Payment—1 minute.

b. Certifications Required from Individuals Electing Accelerated Payments—5 minutes.

c. Agreement with Educational Institutions—3 minutes.

Frequency of Response: On occasion.

Estimated Number of Respondents: 13,727

a. Request for Accelerated Payment—6,000.

b. Certifications Required from Individuals Electing Accelerated Payments—6,000.

c. Agreement with Educational Institutions—1,727.

Estimated Annual Responses: 21,727.

a. Request for Accelerated Payment—10,000.

b. Certifications Required from Individuals Electing Accelerated Payments—10,000.

c. Agreement with Educational Institutions—1,727.

Dated: June 23, 2003.
By direction of the Secretary.
Loise Russell,
Acting Director, Records Management Service.

[FR Doc. 03-16864 Filed 7-2-03; 8:45 am]

BILLING CODE 8320-01-P